DEPARTMENT OF TRANSPORTATION

Federal Aviation Administration

14 CFR Part 39

[Docket No. 2000-NM-69-AD]

RIN 2120-AA64

Airworthiness Directives; McDonnell Douglas Model DC-10 Series Airplanes, and KC-10A and KDC-10 (Military) Airplanes

AGENCY: Federal Aviation Administration, DOT.

ACTION: Notice of proposed rulemaking (NPRM).

SUMMARY: This document proposes the adoption of a new airworthiness directive (AD) that is applicable to all McDonnell Douglas Model DC-10 series airplanes, and KC-10A and KDC-10 (military) airplanes. This proposal would require certain modifications of the thrust reverser control and indication system and wiring on each engine. This proposal is prompted by a determination that the current thrust reverser systems do not adequately preclude unwanted deployment of a thrust reverser. The actions specified by the proposed AD are intended to prevent unwanted deployment of a thrust reverser, which could significantly jeopardize continued safety of flight and landing of the airplane.

DATES: Comments must be received by June 12, 2000.

ADDRESSES: Submit comments in triplicate to the Federal Aviation Administration (FAA), Transport Airplane Directorate, ANM-114, Attention: Rules Docket No. 2000-NM-69-AD, 1601 Lind Avenue, SW., Renton, Washington 98055-4056. Comments may be inspected at this location between 9:00 a.m. and 3:00 p.m., Monday through Friday, except Federal holidays.

The service information referenced in the proposed rule may be obtained from Boeing Commercial Aircraft Group, Long Beach Division, 3855 Lakewood Boulevard, Long Beach, California 90846, Attention: Technical Publications Business Administration, Dept. C1-L51 (2-60). This information may be examined at the FAA, Transport Airplane Directorate, 1601 Lind Avenue, SW., Renton, Washington; or at the FAA, Transport Airplane Directorate, Los Angeles Aircraft Certification Office, 3960 Paramount Boulevard, Lakewood, California.

FOR FURTHER INFORMATION CONTACT: Philip Kush, Aerospace Engineer, Propulsion Branch, ANM-140L, FAA, Transport Airplane Directorate, Los Angeles Aircraft Certification Office, 3960 Paramount Boulevard, Lakewood, California 90712-4137; telephone (562) 627-5263; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 2000-NM-69-AD.” The postcard will be date stamped and returned to the commenter.

Availability of NPRMs

Any person may obtain a copy of this NPRM by submitting a request to the FAA, Transport Airplane Directorate, ANM-114, Attention: Rules Docket No. 2000-NM-69-AD, 1601 Lind Avenue, SW., Renton, Washington 98055-4056.

Discussion

In 1992, the FAA issued a document identified as, “Criteria for Assessing Transport Turbojet Fleet Reverser System Safety.” Relative to the new criteria contained in that document, Boeing recently completed an update of the System Safety Analysis (SSA) for McDonnell Douglas Model DC-10 series airplanes. This SSA identified a number of latent (hidden) failures that could contribute to unwanted deployment of a wing engine thrust reverser in flight. Based on this SSA, the FAA has determined that the thrust reverser systems on all McDonnell Douglas Model DC-10 series airplanes, and KC-10A and KDC-10 (military) airplanes do not adequately preclude unwanted deployment of a thrust reverser. Such unwanted deployment of a thrust reverser could significantly jeopardize continued safety of flight and landing of the airplane.

Explanation of Relevant Service Information

The FAA has reviewed and approved the following service information:

• McDonnell Douglas Service Bulletin DC10-78-060, dated December 17, 1999, which describes procedures for modification of the indication light system for the thrust reversers. This service bulletin specifies prior or concurrent accomplishment of McDonnell Douglas DC-10 Service Bulletin 78-40, Revision 1, dated July 24, 1979, which describes procedures for installation of a thrust reverser interlock. (Service Bulletin 78-40, Revision 1, was specified as the appropriate source of service information for accomplishment of the thrust reverser interlock installation in a Notice of Proposed Rulemaking action issued previously.) In addition, Service Bulletin DC10-78-060 specifies prior or concurrent accomplishment of McDonnell Douglas DC-10 Service Bulletin 78-7, Revision 1, dated April 17, 1975, which describes procedures for modification of the overpressure shutoff valve light circuits; and Rohr Incorporated Service Bulletin MDC-CNS 78-41, dated June 11, 1999, which describes procedures for modification of the wire harnesses for the left and right thrust reversers.

• McDonnell Douglas Service Bulletin DC10-78-061, dated February 9, 2000, which describes procedures for installation of provisional wiring for an additional thrust reverser locking system. This service bulletin specifies prior or concurrent accomplishment of Service Bulletin DC10-78-060, described previously, and concurrent accomplishment of Middle River Aircraft Systems provisional installation drawing 537L68229 (for CF6-50 powered airplanes) or 537L68231 (for CF6-6 powered airplanes). These drawings illustrate the installation of mounting hardware for the electromechanical locking system for the thrust reversers.

• McDonnell Douglas Service Bulletin DC10-78-062, dated February 14, 2000, which describes procedures for installation of an additional thrust reverser locking system. This service bulletin specifies prior or concurrent accomplishment of Service Bulletin DC10-78-061, described previously, and concurrent accomplishment of Middle River Aircraft Systems activation installation drawing 537L68230 (for CF6-50 powered airplanes, or 537L68232 (for CF6-6 powered airplanes). These drawings illustrate the installation of the electromechanical locking system for the thrust reversers.

Explanation of Requirements of Proposed Rule

Since an unsafe condition has been identified that is likely to exist or develop on other products of this same type design, the proposed AD would require accomplishment of the actions specified in the service information described previously.

Cost Impact

There are approximately 409 Model DC-10 series airplanes and KC-10A and KDC-10 (military) airplanes of the affected design in the worldwide fleet.

For airplanes listed in McDonnell Douglas DC-10 Service Bulletin DC10-78-060, (301 U.S.-registered airplanes) described below:

For General Electric (GE) powered airplanes (277 U.S.-registered airplanes), it would take approximately 56 work hours per airplane to accomplish the proposed modification of the indication light system, at an average labor rate of $60 per work hour. Required parts would cost between $6,419 and $11,315 per airplane. Based on these figures, the cost impact of this proposed modification on U.S. operators is estimated to be between $9,779 and $14,675 per airplane.

For Pratt & Whitney-powered airplanes (24 U.S.-registered airplanes), it would take approximately 140 work hours per airplane to accomplish the proposed modification of the indication light system, at an average labor rate of $60 per work hour. Required parts would cost between $8,753 and $12,674 per airplane. Based on these figures, the cost impact of this proposed modification on U.S. operators is estimated to be between $17,153 and $21,074 per airplane.

For airplanes listed in McDonnell Douglas DC-10 Service Bulletin 78-40 (179 U.S-registered airplanes): It would take approximately 10 work hours per airplane to accomplish the proposed installation of a thrust reverser interlock, at an average labor rate of $60 per work hour. Required parts would be obtained from the operators stock. Based on these figures, the cost impact of this proposed installation on U.S. operators is estimated to be $107,400, or $600 per airplane.

For airplanes listed in McDonnell Douglas DC-10 Service Bulletin 78-7 (56 U.S-registered airplanes): It would take approximately 52 work hours per airplane to accomplish the proposed modification of the overpressure shutoff valve, at an average labor rate of $60 per work hour. Required parts would cost approximately $2,100 per airplane. Based on these figures, the cost impact of this proposed modification on U.S. operators is estimated to be $292,320, or $5,220 per airplane.

For airplanes listed in Rohr Service Bulletin MDC-CNS 78-41 (3 U.S.-registered airplanes): It would take approximately 6 work hours per airplane to accomplish the proposed wiring modification, at an average labor rate of $60 per work hour. Based on these figures, the cost impact of this proposed wiring modification on U.S. operators is estimated to be $1,080, or $360 per airplane.

For airplanes listed in McDonnell Douglas DC-10 Service Bulletin 78-061 (284 U.S.-registered airplanes), it would take between 222 and 364 work hours per airplane to accomplish the proposed installation of provisional wiring, at an average labor rate of $60 per work hour. Required parts would cost between $11,216 and $17,986 per airplane. Based on these figures, the cost impact of this proposed installation on U.S. operators is estimated to be between $24,536 and $39,826 per airplane.

For airplanes on which Middle River Aircraft Systems provisional installation drawing 537L68229 or 537L68231 is accomplished (284 U.S.-registered airplanes), it would take 96 work hours per airplane to accomplish the proposed installation of the mounting hardware for the electromechanical locking system for the thrust reversers, at an average labor rate of $60 per work hour. Required parts would cost approximately $14,307 per airplane. Based on these figures, the cost impact of this proposed installation on U.S. operators is estimated to be $5,699,028, or $20,067 per airplane.

For airplanes listed in McDonnell Douglas DC-10 Service Bulletin 78-062 (284 U.S.-registered airplanes), it would take approximately 622 work hours per airplane to accomplish the proposed activation installation of an additional thrust reverser locking system, at an average labor rate of $60 per work hour. Required parts would cost approximately $236,000 per airplane. Based on these figures, the cost impact of this proposed installation on U.S. operators is estimated to be $77,622,880, or $273,320 per airplane.

For airplanes on which Middle River Aircraft Systems activation installation drawing 537L68230 or 537L68232 is accomplished (284 U.S.-registered airplanes), it would take 32 work hours per airplane to accomplish the proposed activation installation of the electromechanical locking system for the thrust reversers, at an average labor rate of $60 per work hour. Required parts would cost approximately $252,856 per airplane. Based on these figures, the cost impact of this proposed installation on U.S. operators is estimated to be $72,356,384, or $254,776 per airplane.

The cost impact figures discussed above are based on assumptions that no operator has yet accomplished any of the proposed requirements of this AD action, and that no operator would accomplish those actions in the future if this AD were not adopted.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

McDonnell Douglas: Docket 2000-NM-69-AD.

Applicability: All Model DC-10 series airplanes and KC-10A and KDC-10 (military) airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent unwanted deployment of a thrust reverser, which could significantly jeopardize continued safety of flight and landing of the airplane, accomplish the following:

Thrust Reverser System Modifications

(a) For all airplanes: Within 18 months or 12,000 flight hours after the effective date of this AD, whichever occurs first, modify the position indicator light system for each thrust reverser in accordance with Part 3 of the Accomplishment Instructions in McDonnell Douglas Service Bulletin DC10-78-060, dated December 17, 1999. Prior to or concurrent with accomplishment of the service bulletin, install the thrust reverser interlocks as specified in McDonnell Douglas DC-10 Service Bulletin 78-40, Revision 1, dated July 24, 1979, and accomplish the requirements in paragraph (a)(1) or (a)(2) of this AD, as applicable. The requirements of this paragraph must be accomplished prior to or concurrent with the requirements of paragraph (b) or (c) of this AD, as applicable.

(1) For General Electric (GE)-powered airplanes: Modify the overpressure shutoff valve light circuits in accordance with McDonnell Douglas DC-10 Service Bulletin 78-7, Revision 1, dated April 17, 1975.

(2) For Pratt and Whitney-powered airplanes: Modify the left and right thrust reverser wire harnesses in accordance with Rohr Incorporated Service Bulletin MDC-CNS 78-41, dated June 11, 1999.

(b) For Model DC-10-10, -10F, -15, -30, and -30F series airplanes; and KC-10A and KDC-10 (military) airplanes; listed in McDonnell Douglas Service Bulletin DC10-78-061, dated February 9, 2000: Within 5 years after the effective date of this AD, accomplish the thrust reverser wiring modification on each engine in accordance with Part 3 of the Accomplishment Instructions in the service bulletin. Concurrent with accomplishment of this service bulletin, accomplish Middle River Aircraft Systems provisional installation drawing 537L68229 (for CF6-50-powered airplanes) or 537L68231 (for CF6-6-powered airplanes), as applicable.

(c) For Model DC-10-10, -10F, -15, -30, and -30F series airplanes; and KC-10A and KDC-10 (military) airplanes; listed in McDonnell Douglas Service Bulletin DC10-78-062, dated February 14, 2000: Within 5 years after the effective date of this AD, install an additional locking system on each thrust reverser in accordance with Part 3 of the Accomplishment Instructions in the service bulletin. Concurrent with accomplishment of this service bulletin, accomplish Middle River Aircraft Systems provisional installation drawing 537L68230 (for CF6-50-powered airplanes) or 537L68232 (for CF6-6-powered airplanes), as applicable.

Alternative Methods of Compliance

(d) An alternative method of compliance or adjustment of the compliance time that provides an acceptable level of safety may be used if approved by the Manager, Los Angeles Aircraft Certification Office (ACO), FAA, Transport Airplane Directorate. Operators shall submit their requests through an appropriate FAA Principal Maintenance Inspector, who may add comments and then send it to the Manager, Los Angeles ACO.

Note 2: Information concerning the existence of approved alternative methods of compliance with this AD, if any, may be obtained from the Los Angeles ACO.

Special Flight Permit

(e) Special flight permits may be issued in accordance with sections 21.197 and 21.199 of the Federal Aviation Regulations (14 CFR 21.197 and 21.199) to operate the airplane to a location where the requirements of this AD can be accomplished.

Issued in Renton, Washington, on April 24, 2000.
Donald L. Riggin,
Acting Manager, Transport Airplane Directorate, Aircraft Certification Service.

[FR Doc. 00-10669 Filed 4-27-00; 8:45 am]

BILLING CODE 4910-13-P